NATIONAL SCIENCE FOUNDATION

Proposal Review Panel for Materials Research Notice of Meeting

In accordance with the Federal Advisory Committee Act (Pub. L. 92-463 as amended), the National Science Foundation announces the following meeting:

Name: Site Visit review of the Nanoscale Science and Engineering Center (NSEC) at the University of Wisconsin, Madison, WI (DMR) #1203.

Dates & Times:

Sunday, May 9, 2010; 5:45 p.m.-8:30 p.m.

Monday, May 10, 2010; 7:30 a.m.-9 p.m.

Tuesday, May 11, 2010; 7:45 a.m.-4 p.m.

Place: University of Wisconsin, Madison, WI.

Type of Meeting: Part-open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the NSEC at the University of Wisconsin (UW), Madison, WI.

Agenda

Sunday, May 9, 2010

5:45 p.m.-6:45 p.m.: Closed—Executive session

6:45 p.m.-8:30 p.m.: Open—Review of the NSEC at UW

Monday, May 10, 2010

7:30 a.m.-4:30 p.m.: Open—Review of the NSEC at UW

4:30 p.m.-6:15 p.m.: Closed—Executive session

6:45 p.m.-9 p.m.: Closed—Dinner

Tuesday, May 11, 2010

7:45 a.m.-9 a.m.: Closed—Executive session

9 a.m.-10:15 a.m.: Open—Review of the NSEC at UW

10:15 a.m.-4 p.m.: Closed—Executive Session, Draft and Review Report

Reason for Closing: The work being reviewed may include information of a proprietary or confidential nature, including technical information; financial data, such as salaries and personal information concerning individuals associated with the proposals. These matters are exempt under 5 U.S.C. 552 b(c), (4) and (6) of the Government in the Sunshine Act.

Dated: April 6, 2010.
Susanne Bolton,
Committee Management Officer.

[FR Doc. 2010-8099 Filed 4-8-10; 8:45 am]

BILLING CODE 7555-01-P